FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/Address | Date reissued
017466N | Compass Shipping, Inc., 525 Empire Blvd., Brooklyn, NY 11125 | September 21, 2005.
283F | Saima Avendero USA, Inc., 550 Broad Street, Suite 1001, Newark, NJ 07102 | August 4, 2003.

Sandra L. Kusumoto,
Director, Bureau of Consumer Complaints and Licensing.

[FR Doc. 05-21846 Filed 11-1-05; 8:45 am]

BILLING CODE 6730-01-P